DEPARTMENT OF AGRICULTURE

Animal and Plant Health Inspection Service

[Docket No. 99-098-1]

Environmental Impact Statement; Importation of Unmanufactured Wood Articles From Mexico

AGENCY: Animal and Plant Health Inspection Service, USDA.

ACTION: Notice of intent.

SUMMARY: We are advising the public that the Animal and Plant Health Inspection Service intends to prepare an environmental impact statement relative to our proposed rule for the importation of pine and fir logs and lumber and other unmanufactured wood articles from Mexico. The environmental impact statement will examine the potential effects of the proposed rule on the human environment, including cumulative impacts of methyl bromide use that could result if our proposed rule is adopted. In order to identify cumulative impacts, the environmental impact statement will consider the incremental impact of the proposed rule when added to other past, present, and reasonably foreseeable future actions. We invite the public to comment on what specific issues we should address in the environmental impact statement.

DATES: We will consider all comments that we receive by April 12, 2000.

ADDRESSES: Please send your comment and three copies to: Docket No. 99-098-1, Regulatory Analysis and Development, PPD, APHIS, Suite 3C03, 4700 River Road, Unit 118, Riverdale, MD 20737-1238.

Please state that your comment refers to Docket No. 99-098-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Arnold Foudin, Senior Operations Officer, Policy Planning and Critical Issues, PPQ, APHIS, 4700 River Road Unit 147, Riverdale, MD 20737-1234; (301) 734-7601.

SUPPLEMENTARY INFORMATION:

Background

On June 11, 1999, the Animal and Plant Health Inspection Service (APHIS) published a proposed rule in the Federal Register (64 FR 31512-31518, Docket No. 98-054-1) to amend the regulations in 7 CFR part 319 to add restrictions on the importation of pine and fir logs and lumber and other unmanufactured wood articles from Mexico. Under the proposal, certain unmanufactured wood articles would be required to be treated in order to be eligible for importation into the United States. The proposed rule would allow treatment with methyl bromide as an alternative to heat treatment.

Several of the comments we received on the proposed rule and its accompanying environmental assessment indicated the need to consider the cumulative environmental impacts of methyl bromide use. Regulations issued by the Council on Environmental Quality (CEQ) implementing the National Environmental Policy Act of 1969 (NEPA), as amended (42 U.S.C. 4321 et seq.), define “cumulative impact” as “the impact on the environment which results from the incremental impact of the action when added to other past, present, and reasonably foreseeable future actions regardless of what agency (Federal or non-Federal) or person undertakes such other actions. Cumulative impacts can result from individually minor but collectively significant actions taking place over a period of time.”

Based on the comments described above, APHIS intends to prepare an environmental impact statement (EIS) relative to our proposed rule for the importation of pine and fir logs and lumber and other unmanufactured wood articles from Mexico. The EIS will consider, among other things, the cumulative environmental impacts of methyl bromide use that could result if the proposed rule is adopted. As provided in the definition above, to fully consider the incremental impacts of methyl bromide use that could result if our proposed rule is adopted, we also need to identify other past, present, and reasonably foreseeable uses of methyl bromide.

We plan to seek assistance from, and coordinate closely with, among others, experts at the U.S. Environmental Protection Agency and the United Nations Environmental Programme in drafting the EIS and in identifying uses of methyl bromide. This notice also requests public comments to help us identify other significant environmental issues that should be addressed or analyzed in the EIS and to help us identify additional uses of methyl bromide.

The EIS will analyze the full range of alternatives available to the decisionmaker in the APHIS rulemaking proceeding described above, including “no action'; use of the entire range of treatment options, including methyl bromide; and treatment options other than methyl bromide.

The EIS will also identify other APHIS and non-APHIS uses of methyl bromide in order to determine the potential incremental cumulative impacts that could result if our proposed rule is adopted.

This notice and the upcoming EIS are intended to fulfill the requirements of both NEPA and Executive Order 12114, “Environmental Effects Abroad of Major Federal Actions,” to the extent applicable. A notice announcing the availability of the draft EIS for review will be published in the Federal Register. The notice will also request comments on the draft EIS.

This notice is issued in accordance with: (1) NEPA, (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 7th day of March 2000.
Bobby R. Acord,
Acting Administrator, Animal and Plant Health Inspection Service.

[FR Doc. 00-6069 Filed 3-10-00; 8:45 am]

BILLING CODE 3410-34-U